DEPARTMENT OF COMMERCE

National Oceanic and Atmospheric Administration

50 CFR Part 622

[Docket No. 140819686-5999-02]

RIN 0648-BE38

Fisheries of the Caribbean, Gulf of Mexico, and South Atlantic; Snapper-Grouper Fishery and Golden Crab Fishery of the South Atlantic, and Dolphin and Wahoo Fishery of the Atlantic

AGENCY: National Marine Fisheries Service (NMFS), National Oceanic and Atmospheric Administration (NOAA), Commerce.

ACTION: Final rule.

SUMMARY: NMFS issues this final rule to implement management measures described in Amendment 34 to the Fishery Management Plan (FMP) for the Snapper-Grouper Fishery of the South Atlantic Region, Amendment 9 to the FMP for the Golden Crab Fishery of the South Atlantic Region, and Amendment 8 to the FMP for the Dolphin and Wahoo Fishery of the Atlantic; collectively referred to as the Generic Accountability Measures (AM) and Dolphin Allocation Amendment (Generic AM Amendment), as prepared and submitted by the South Atlantic Fishery Management Council (Council). This final rule revises the commercial and recreational AMs for numerous snapper-grouper species and golden crab. This final rule also revises commercial and recreational sector allocations for dolphin in the Atlantic. The actions are intended to make the AMs consistent for snapper-grouper species addressed in the final rule and for golden crab, and revise the allocations between the commercial and recreational sectors for dolphin.

DATES: This final rule is effective February 22, 2016.

ADDRESSES: Electronic copies of the Generic AM Amendment, which includes an environmental assessment, a Regulatory Flexibility Act (RFA) analysis, and a regulatory impact review, may be obtained from the Southeast Regional Office Web site at http://sero.nmfs.noaa.gov/sustainable_fisheries/s_atl/2014/am_dolphin_allocation/index.html.

FOR FURTHER INFORMATION CONTACT: Mary Janine Vara, NMFS Southeast Regional Office, telephone: 727-824-5305, or email: mary.vara@noaa.gov.

SUPPLEMENTARY INFORMATION: The snapper-grouper fishery in the South Atlantic is managed under the FMP for the Snapper-Grouper Fishery of the South Atlantic Region (Snapper-Grouper FMP). The golden crab fishery in the South Atlantic is managed under the FMP for the Golden Crab Fishery of the South Atlantic Region (Golden Crab FMP). The dolphin and wahoo fishery in the Atlantic is managed under the FMP for the Dolphin and Wahoo Fishery of the Atlantic (Dolphin Wahoo FMP). The FMPs were prepared by the Council and implemented by NMFS through regulations at 50 CFR part 622 under the authority of the Magnuson-Stevens Fishery Conservation and Management Act (Magnuson-Stevens Act).

On July 15, 2015, NMFS published a notice of availability for the Generic AM Amendment in the Federal Register and requested public comment (80 FR 41472). On September 29, 2015, NMFS published a proposed rule for the Generic AM Amendment in the Federal Register and requested public comment (80 FR 58448). On October 14, 2015, NMFS approved this amendment. The notice of availability, proposed rule, and the Generic AM Amendment set forth additional rationale for the actions contained in this final rule. A summary of the actions implemented by this final rule is provided below.

Management Measures Contained in This Final Rule

Modifications to Commercial and Recreational AMs for Snapper-Grouper Species and Golden Crab

This final rule revises the AMs for golden tilefish, snowy grouper, gag grouper (gag), red grouper, black grouper, scamp, the other shallow-water grouper complex (SASWG: Red hind, rock hind, yellowmouth grouper, yellowfin grouper, coney, and graysby), greater amberjack, the other jacks complex (lesser amberjack, almaco jack, and banded rudderfish), bar jack, yellowtail snapper, mutton snapper, the other snappers complex (cubera snapper, gray snapper, lane snapper, dog snapper, and mahogany snapper), gray triggerfish, wreckfish (recreational sector), Atlantic spadefish, hogfish, red porgy, the other porgies complex (jolthead porgy, knobbed porgy, whitebone porgy, scup, and saucereye porgy), and golden crab (commercial sector).

This final rule modifies the AMs for these species, including those identified in the species complexes, to make them consistent with the majority of the AMs already in place for other snapper-grouper species. Specifically, the final rule updates the recreational AMs to allow NMFS to close the applicable recreational sector when the recreational annual catch limit (ACL) is met or projected to be met, unless NMFS determines that no closure is necessary based on the best scientific information available. This final rule also modifies the AMs to trigger post-season ACL reductions in the commercial and recreational sectors in the year following any ACL overage under certain situations.

If the recreational sector exceeds its ACL, NMFS will monitor the recreational sector for a persistence in increased landings during the following fishing year. In the following fishing year, if the best scientific information available determines it necessary, NMFS will publish a notice in the Federal Register to reduce the length of fishing season and the recreational ACL by the amount of the recreational ACL overage if the species, or one or more species in a species complex, is overfished and if the total ACL (commercial ACL and recreational ACL) was exceeded in the prior fishing year.

If the commercial sector exceeds its ACL, NMFS will publish a notice in the Federal Register to reduce the commercial ACL in the following fishing year by the amount of the commercial ACL overage if the species, or one or more species in a species complex, is overfished and if the total ACL (commercial ACL and recreational ACL) was exceeded in the prior fishing year.

Modifying the AMs in this manner creates regulatory consistency among the majority of federally managed snapper-grouper species and golden crab in the South Atlantic region.

Modifications to Commercial and Recreational Sector Allocations for Dolphin

This final rule revises the commercial sector allocation to be 10 percent of the dolphin stock ACL with the ACL set at 1,534,485 lb (696,031 kg), round weight, and the recreational sector allocation for dolphin to be 90 percent of the stock ACL with the ACL set at 13,810,361 lb (6,264,274 kg), round weight. This change in sector allocations constitutes an equivalent ACL increase for the commercial sector and an ACL decrease for the recreational sector of 377,484 lb (171,224 kg), round weight.

Other Changes to the Codified Text

In addition to the measures described in the Generic AM Amendment, this final rule clarifies the AM provisions in § 622.193 (the ACLs/AMs section of the regulations for South Atlantic snapper-grouper species) that will reduce a season length in the following recreational fishing year. These clarifications will aid law enforcement efforts. For those snapper-grouper species that have a post-season AM if a recreational ACL is exceeded, under certain conditions NMFS will reduce the season length (i.e., implement a closure) for that species or species complex in the following fishing year by publishing an AM notification and closure date for the recreational sector for that species or species complex in the Federal Register. In this final rule, NMFS adds a closure provision to the regulations for these situations. Specifically, the provision states that when the closure becomes effective, the bag and possession limits for the applicable species or species complex in or from the U.S. exclusive economic zone (EEZ) in the South Atlantic will be reduced to zero.

In addition, this final rule removes and consolidates language in § 622.190(a)(6) for the red porgy commercial quota from past fishing years that is no longer applicable.

Finally, this final rule fixes an error in § 622.280 for Atlantic dolphin and wahoo. Atlantic dolphin and wahoo are managed off the Atlantic states (Maine through the east coast of Florida) via the Dolphin Wahoo FMP; however, in the AMs section of the codified text, the closure provisions currently apply in the South Atlantic EEZ only. This inadvertent error was implemented in the rulemaking for the Comprehensive ACL Amendment (77 FR 15916, March 16, 2011). This final rule changes “South Atlantic EEZ” to “Atlantic EEZ” in the AMs for dolphin and wahoo in paragraphs (a)(1)(i) and (b)(1)(i) of § 622.280, which is consistent with the FMP for management of these species from Maine through the east coast of Florida.

Comments and Responses

NMFS received comments from individuals, fishing associations, a marine resource conservation group, a seafood dealer, and a municipal chamber of commerce on the notice of availability and the proposed rule for the Generic AM Amendment, along with other issues. NMFS received comments that were beyond the scope of the notice of availability and proposed rule, and therefore, they have not been addressed in this final rule. The 19 unique comments that relate to one or more of the management actions in the Generic AM Amendment and the proposed rule are summarized and responded to below.

Comment 1: One commenter agreed that the commercial sector allocation for Atlantic dolphin (dolphin) should be increased, but suggested that the methods used to calculate the allocation changes need to be revisited. Another commenter suggested that the Council should select a different alternative that allocates 86 percent of the total ACL to the recreational sector and 14 percent to the commercial sector.

Response: The Council did choose a different method than they used previously to determine the sector allocations for dolphin in the Generic AM Amendment and final rule. In this amendment, the Council used more recent commercial and recreational landings from 2008 through 2012, which results in changing the allocation for the commercial sector from 7.54 percent to 10 percent and changing the allocation for the recreational sector from 92.46 percent to 90 percent. This revised allocation results in an increase in the commercial ACL from 1,157,001 lb (524,807 kg), round weight, to 1,534,485 lb (696,031 kg), round weight. The Council determined that the revised allocation reduces the potential for exceeding the commercial ACL, since the increase shows that the dolphin commercial ACL would not have been exceeded during the 2008 through 2014 fishing years. Additionally, as discussed below, the recreational sector has landed approximately 50 percent of their ACL during most of this time period. The Council determined that this change in allocation between the commercial and recreational sectors, and not the alternative that would allocate 14 percent of the total ACL to the commercial sector and 86 percent to the recreational sector, was the best management strategy to meet the objectives of the Generic AM Amendment and the Dolphin Wahoo FMP, while complying with the requirements of the Magnuson-Stevens Act and other applicable laws. If the Council decides that another allocation adjustment is required in the future, they may choose to consider allocation options in a future amendment.

Comment 2: A commenter opposed the shift in the allocation from the recreational sector to the commercial sector, because when other commercial fisheries close, there will be increased commercial effort directed toward dolphin resulting in an increase in commercial harvest, causing overfishing of the stock.

Response: NMFS disagrees that the Council should not change the commercial and recreational allocations for dolphin, or that this allocation shift will cause overfishing of dolphin. From 2008 through 2013, the latest complete 5-year data period available when the Council considered the actions in the amendment and in this final rule, the recreational sector landed approximately 50 percent of their ACL each year. In 2014, the recreational sector landed approximately 37 percent of their ACL, and 39 percent of the recreational ACL was landed through August 2015 (the latest data available as of December 7, 2015). However, the commercial sector met their ACL in both 2014 and 2015. The Council's decision to increase the commercial allocation for dolphin from 7.54 percent to 10 percent reduces the potential for the commercial sector to exceed its ACL. Sector-specific AMs are in place to limit harvest to the respective sector ACL, which will help to prevent overfishing of dolphin. Additionally, based on their life history, dolphin is not as susceptible to overfishing because it is a short-lived species that is also highly productive.

Comment 3: A commenter opposed the amendment as inconsistent with National Standard 1 under the Magnuson-Stevens Act, because allocating more of the total ACL to the commercial sector would allow dolphin fishers to better achieve optimum yield (OY) for the stock.

Response: NMFS disagrees that the Generic AM Amendment is inconsistent with National Standard 1. National Standard 1 states that management and conservation measures shall prevent overfishing while achieving, on a continuing basis, the OY from a fishery. The Magnuson-Stevens Act defines “optimum,” with respect to the yield from a fishery, in part, as the amount of fish that will provide the greatest overall benefit to the Nation, particularly with respect to food production and recreational opportunities and taking into account the protection of marine ecosystems. The Council determined that the increase in allocation from 7.54 percent to 10 percent for the commercial sector helped best meet the definition of OY for the dolphin fishery, and is the best management strategy to meet the objectives of the Generic AM Amendment and the Dolphin Wahoo FMP.

Comment 4: A commenter opposed the amendment as inconsistent with National Standard 2 under the Magnuson-Stevens Act, because the sector allocations are based on flawed estimates of recreational landings derived from the Marine Recreational Fisheries Statistics Survey (MRFSS).

Response: NMFS disagrees. The recreational sector allocations and ACLs for dolphin and wahoo were established in the Comprehensive ACL Amendment (77 FR 15916, March 16, 2012), using data generated by MRFSS, which was the best scientific information available at that time. In 2013, following an independent review by the National Research Council and as directed by Congress within the Magnuson-Stevens Act, NMFS replaced MRFSS with the Marine Recreational Information Program (MRIP) to provide more accurate recreational catch estimates. MRIP is expected to reduce potential bias and increase the accuracy, timeliness, and spatial resolution of recreational catch and effort estimates. Amendment 5 to the Dolphin Wahoo FMP (79 FR 32878, June 9, 2014) revised the ACLs using recreational data from MRIP. The ACLs in the Generic AM Amendment utilize MRIP data, which is now the best scientific information available. Furthermore, the Council chose to revise the allocations for dolphin based on data from a more recent time period, and the sector allocations are not based on flawed estimates of recreational landings. NMFS has determined that the actions in this amendment are based upon the best scientific information available, in accordance with National Standard 2.

Comment 5: A commenter opposed the amendment as inconsistent with National Standard 3 under the Magnuson-Stevens Act, because the stock structure of dolphin indicates a great deal of mixing, with harvest by fishermen from many other nations.

Response: NMFS disagrees that the amendment is inconsistent with National Standard 3. National Standard 3 states that to the extent practicable, an individual stock of fish shall be managed as a unit throughout its range. Furthermore, fishery management plans should include conservation and management measures for that part of the management unit within U.S. waters, as per the National Standard 3 Guidelines. Although dolphin occur in tropical and subtropical waters worldwide, it is generally accepted that there is a single dolphin stock in the western central Atlantic, from Nova Scotia to Brazil and throughout the Gulf of Mexico and Caribbean Sea. Samples of dolphin harvested throughout this area indicate no substantial genetic differences, and tagging information shows that dolphin move within this range. While dolphin may be genetically similar in the Gulf of Mexico, Caribbean, and South Atlantic, the Dolphin Wahoo FMP only addresses dolphin that occur in the Atlantic, as per the National Standard 3 Guidelines that allow for the dolphin management unit to be defined by a geographic area. Accordingly, the original Dolphin Wahoo FMP specified one management unit in the Atlantic ranging from New England to the U.S. South Atlantic for comprehensive management and protection.

Comment 6: A commenter opposed the amendment as inconsistent with National Standard 4 under the Magnuson-Stevens Act, because U.S. fishermen in the Gulf of Mexico are not restricted from access to dolphin. The commenter also questioned the use of J-style hooks instead of circle hooks on pelagic longline gear that harvests dolphin, and suggested restricting dolphin permits for those fishers using pelagic longline gear. The commenter also asked whether fishermen with commercial permits for dolphin and wahoo who use pelagic longline gear have to file logbook reports and carry observers, and whether they may retain highly migratory species (HMS).

Response: NMFS disagrees that the Generic AM Amendment is inconsistent with National Standard 4. National Standard 4 states, in part, that conservation and management measures in a fishery management plan shall not discriminate between residents of different states. The actions in the Generic AM Amendment are applicable to all residents of each of the states affected by the Dolphin Wahoo FMP. Dolphin in the Gulf of Mexico are not subject to management through the Dolphin Wahoo FMP.

Fishermen with Federal commercial vessel permits for dolphin and wahoo may not retain HMS species without the relevant Federal HMS permit. Fishing for dolphin with J-hooks is allowed under the Dolphin Wahoo FMP, and the use of circle hooks was not considered in the Generic AM Amendment, although the Council could consider measures in a future amendment to require the use of circle hooks. At this time, fishermen with Federal commercial vessel permits for dolphin and wahoo are not required to carry observers under the Dolphin Wahoo FMP, but they are required to complete logbooks for retained and discarded catch and report that information to NMFS. Additionally, at this time, the Council has not chosen to further restrict the number of commercial vessel permit holders who may fish for dolphin using pelagic longline gear.

Comment 7: A commenter opposed the amendment as inconsistent with National Standard 5 under the Magnuson-Stevens Act, because it will not promote efficiency to set a commercial limit that is unnecessarily low for dolphin.

Response: NMFS disagrees that the amendment is inconsistent with National Standard 5. National Standard 5 states that conservation and management measures shall, where practicable, consider efficiency in the utilization of fishery resources; except that no such measure shall have economic allocation as its sole purpose. The Council considered efficiency in its decision to increase the commercial allocation for dolphin from 7.54 percent to 10 percent of the total ACL, and the commercial ACL from 1,157,001 lb (524,807 kg), round weight, to 1,534,485 lb (696,031 kg), round weight. The Council determined that the revised allocation and commercial ACL was more efficient in that it is expected to reduce the potential for the commercial sector to exceed its ACL.

Comment 8: A commenter opposed the amendment as inconsistent with National Standard 6 under the Magnuson-Stevens Act, because the sector reallocations are based on a short recent time frame that does not adequately take into account the cyclical nature of highly migratory species fisheries.

Response: NMFS disagrees that the amendment is inconsistent with National Standard 6. The Magnuson-Stevens Act does not define dolphin as a highly migratory species. National Standard 6 states that conservation and management measures shall take into account and allow for variations among, and contingencies in, fisheries, fishery resources, and catches. The Council did consider the variation in dolphin catches over a long time period (from 1999 through 2012) when choosing their preferred alternative for an allocation formula. In this amendment, the Council chose to use more recent commercial and recreational landings data from 2008 through 2012, rather than the landings data from 1999 through 2008 that the Council previously used. This change in the allocation formula results in changing the allocation for the commercial sector from 7.54 percent to 10 percent and changing the allocation for the recreational sector from 92.46 percent to 90 percent. The Council determined that the revised allocation takes into account the variations in the fishery, and reduces the potential for the commercial sector to exceed its ACL while meeting the objectives of the FMP.

Comment 9: A commenter opposed the amendment as inconsistent with National Standard 7 under the Magnuson-Stevens Act, because dolphin should be managed under the Highly Migratory Species Division of NMFS, which would minimize costs, allow participants better opportunity to participate in the management process, avoid duplication by several interested Councils, and most importantly, lead the way for truly effective international management for these highly migratory fish harvested by many international fishermen.

Response: NMFS disagrees that the amendment is inconsistent with National Standard 7. The Magnuson-Stevens Act's definition of “highly migratory species” explicitly lists which species are to be included, and Congress did not include dolphin in the definition (16 U.S.C. 1802(21)). In 2004, the Council, in cooperation with the Mid-Atlantic and New England Councils, and with the approval of the Secretary of Commerce, developed the Dolphin Wahoo FMP for the Atlantic and manage those species under this FMP.

Comment 10: A commenter opposed the amendment as inconsistent with National Standard 8 under the Magnuson-Stevens Act, because the sector reallocation measure for dolphin is likely to have significant adverse impacts on commercial fishermen and the communities that rely on them, and the healthy condition of dolphin does not warrant this action at this time.

Response: NMFS disagrees that the amendment is likely to have significant adverse impacts on commercial fishermen and communities, and has determined that the amendment is consistent with National Standard 8. The preferred alternative in the Generic AM Amendment is expected to have positive economic and social impacts for commercial fishermen and the communities that rely on them, as it will increase the commercial allocation from 7.54 percent to 10 percent of the total ACL and increase in the commercial ACL from 1,157,001 lb (524,807 kg), round weight, to 1,534,485 lb (696,031 kg), round weight.

Comment 11: A commenter opposed the amendment as inconsistent with National Standard 9 under the Magnuson-Stevens Act, because the sector reallocation for dolphin should contain allocation for commercial fishermen at a level that is highly unlikely to lead to the regulatory discarding of dolphin.

Response: NMFS disagrees. National Standard 9 states, in part, that management measures shall minimize bycatch to the extent practicable. The increase in commercial allocation from 7.54 percent to 10 percent of the total ACL and increase in the commercial ACL from 1,157,001 lb (524,807 kg), round weight, to 1,534,485 lb (696,031 kg), round weight, is expected to decrease the chance that a commercial closure will occur. With a longer commercial fishing season, fewer regulatory discards would be expected. The Council determined that the revised allocation will reduce the potential for the commercial sector to exceed its ACL, since this increase shows that the dolphin commercial ACL would not have been exceeded during the 2008 through 2014 fishing years.

Comment 12: A commenter opposed the amendment as inconsistent with National Standard 10 under the Magnuson-Stevens Act, because commercial fishermen will be forced to discard perfectly saleable fish if the fishery closes and will have to fish longer trips when the fishery is open to attempt to make up those losses.

Response: NMFS disagrees. National Standard 10 is intended to promote the safety of human life at sea to the maximum extent practicable, and that is what this amendment does. The Generic AM Amendment will increase the sector allocation and ACL for the commercial sector, so that the chance that a commercial closure will occur and that fishermen will have to make up for the lost opportunity to harvest dolphin by taking longer trips will be reduced.

Comment 13: One commenter asked why the recreational sector ACL is larger than the commercial ACL.

Response: The recreational ACL is larger than the commercial ACL because the allocations in the Dolphin Wahoo FMP are based on historical landings by commercial and recreational fishermen, and the recreational landings have historically greatly exceeded the commercial landings. In 2012, the Council established sector allocations for Atlantic dolphin through the final rule to implement the Comprehensive ACL Amendment (77 FR 15916, March 16, 2012). At that time, the Council determined the allocation for the sectors to be 7.54 percent for the commercial sector and 92.46 percent for the recreational sector, based on a methodology that used 50 percent of proportional commercial to recreational landings from 1999 through 2008 and 50 percent of proportional commercial to recreational landings from 2006 through 2008. In the Generic AM Amendment, the Council changed the sector allocations of the total dolphin ACL to 10 percent commercial and 90 percent recreational based on a revised methodology that used the more recent commercial and recreational landings data from 2008 through 2012.

Comment 14: A commenter asked about the methods used to gather dolphin recreational catch data, since recreational fishers do not use trip tickets or logbooks like the commercial sector.

Response: Recreational landings for dolphin in the Atlantic are collected through MRIP and the Southeast Region Headboat Survey (SRHS). With respect to dolphin, MRIP covers coastal Atlantic states from Maine to Florida. MRIP provides estimated landings and discards for six 2-month periods (waves) each year. The survey provides estimates for three recreational fishing modes: Shore-based fishing, private and rental boat fishing, and for-hire charter and guide fishing. Catch data are collected through dockside angler intercept surveys of completed recreational fishing trips, and effort data are collected using telephone surveys. The SRHS estimates landings and discards for headboats in the U.S. South Atlantic and Gulf of Mexico from required electronic logbooks. Landings data from MRIP and SRHS are compared to the respective recreational ACL. If the ACL has been met or exceeded, an AM is triggered, such as an in-season closure. If landings for either MRIP or SRHS are incomplete, projections of landings based on information from previous years are used to predict when the recreational ACL is expected to be met. Additional information of both commercial and recreational landings for dolphin can be found on the NMFS Southeast Regional ACL monitoring Web page at: http://sero.nmfs.noaa.gov/sustainable_fisheries/acl_monitoring/index.html.

Comment 15: One commenter stated that the revised reallocation will reduce both large dolphin and the numbers of fish preferred by recreational fishermen, and that the correct age class and stock size of dolphin should be managed to a goal of maximum economic yield, rather than maximum sustainable yield.

Response: The Magnuson-Stevens Act establishes maximum sustainable yield as the basis for fishery management, not maximum economic yield. Harvest by either the commercial or recreational sector could affect the age class distribution as well as the stock size. This reallocation will allow the commercial sector to harvest a small portion of a relatively large amount of fish left unharvested by the recreational sector, and sector-specific ACLs and AMs have been established to control the adverse biological impacts of the harvests on the dolphin stock and maintain stock size at a sustainable level. Thus, it is expected that the reallocation being implemented through this final rule will have no negative effects on the health of the dolphin stock.

Comment 16: A commenter stated that the proposed allocation shows a lack of fairness and transparency in the Council process, and that NMFS and the Council should follow their own scientific guidance when revising allocations.

Response: The Magnuson-Stevens Act requires fishery management councils to make their management decisions through a very public process. The Council has an open decision-making process, and the public is afforded ample opportunity to comment and participate on topics being considered. This process includes review and advice from the Council's Scientific and Statistical Committee (SSC) and advisory panels. Each meeting in which the Council, the SSC, or the Council's advisory panels discussed the Generic AM Amendment was noticed in the Federal Register and also publicized by the Council, and each meeting was open to the public and had public comment periods available. The Council also held public scoping meetings and public hearings on the actions contained in this amendment. The notice of availability for the Generic AM Amendment had a 60-day public comment period (80 FR 41472, July 15, 2015). The public also had a 30-day opportunity to comment on the proposed rule (80 FR 58448, September 29, 2015). Additionally, NMFS has determined that the actions in this amendment are based upon the best scientific information available.

Comment 17: A commenter opposed the amendment because the reallocation would continue an unfair scenario facing the recreational sector, in which AMs are imposed if the recreational ACL is exceeded, and yet the allowable recreational catch is reallocated if the recreational quota is not achieved.

Response: NMFS disagrees. The reallocation for the commercial sector from 7.54 percent to 10 percent and for the recreational sector from 92.46 percent to 90 percent of the total dolphin ACL does not represent an unfair scenario facing the recreational sector. The Council determined that the revised allocation reduces the potential for exceeding the commercial ACL, since the increase shows that the dolphin commercial ACL would not have been exceeded during the 2008 through 2014 fishing years. Additionally, the recreational sector has landed approximately 50 percent of their ACL during most of this time period.

Comment 18: A commenter opposed the amendment, stating that the economic analysis is not based on best scientific information available, because it ignores any value that recreational fishers might hold for the value of taking a dolphin trip without any harvest and the economic value recreational fishers hold for more robust stocks and larger fish. The commenter was concerned that the change in allocation and higher commercial harvest will result in reduced economic benefits to recreational fishers and the public.

Response: NMFS disagrees. The Generic AM Amendment, including its economic analysis, is based on the best scientific information available, and it includes available information on recreational economic values for dolphin, such as values per fish kept, with higher values attached to larger fish; values per dolphin fish, per trip, and values per dolphin fish caught and released.

Studies that consider the economic efficiency of allocating dolphin between the commercial and recreational sectors are not currently available. The absence of such studies precludes the determination of the economic efficiency gains and losses to the commercial or recreational sector, and net gains or losses to the public as a whole, from each of the allocation alternatives within the Generic AM Amendment. The economic analysis notes that, with the recreational sector's harvest being well below its allocation, decreasing the recreational allocation by 2.46 percentage points (with an equivalent increase to the commercial allocation) would have no adverse economic impacts on the recreational sector.

Comment 19: A commenter opposed the amendment, stating that commercial trip limits should be adopted to prevent the development of a directed commercial dolphin fishery, especially the longline segment, which would happen if the allocation shifts sufficiently to the commercial sector. A directed commercial dolphin fishery raises the possibility of localized depletion of dolphin, thereby affecting recreational fishing success.

Response: There is currently a trip limit of 200 lb (91 kg) of dolphin and wahoo, combined, for a vessel that does not have a Federal commercial vessel permit for dolphin and wahoo but has a Federal commercial vessel permit in any other fishery, provided that all fishing on and landings from that trip are north of 39° North latitude (50 CFR 622.278(a)(2)). The Council did not consider any other commercial trip limits in the Generic AM Amendment, but they are developing an amendment to consider commercial trip limits specifically for dolphin (Dolphin Wahoo Regulatory Amendment 1). A review of dolphin and wahoo Federal commercial permits from 2008 through 2012 shows that Federal commercial permit holders predominantly used hook-and-line gear and trolling gear to harvest dolphin, and not longline gear.

Because the commercial ACL is increasing, there is a chance the small portion of the fishery that uses longlines may increase or those that already use that gear type may increase their fishing effort. Since longline gear have the potential to catch a large number of dolphin at one time, an increase in longline effort could result in temporary localized depletion. However, NMFS does not expect localized depletion of dolphin since only a small subset of Federal dolphin wahoo commercial permit holders (11 vessels) use pelagic longlines to harvest dolphin and, given the small increase in the commercial allocation being implemented in this amendment, it is unlikely that longlining effort for dolphin would substantially increase or significantly expand.

Both the commercial and recreational sectors for dolphin are limited to their respective ACLs and the AMs that are in place. The current system of AMs is designed to prevent the ACLs from being exceeded, and to correct for any ACL overages if they occur.

Classification

The Regional Administrator, Southeast Region, NMFS has determined that this final rule is consistent with the Generic AM Amendment, the FMPs, the Magnuson-Stevens Act, and other applicable laws.

This final rule has been determined to be not significant for purposes of Executive Order 12866.

The Magnuson-Stevens Act provides the statutory basis for this rule.

In compliance with section 604 of the RFA, NMFS prepared a Final Regulatory Flexibility Analysis (FRFA) for this final rule. The FRFA incorporates the Initial Regulatory Flexibility Analysis (IRFA), a summary of the significant economic issues raised by public comment, NMFS' responses to those comments, and a summary of the analyses completed to support the action. The FRFA follows.

A statement of the need for, and objectives of, the rule. The actions are intended to make the AMs consistent for snapper-grouper species addressed in the final rule and for golden crab, and revise the allocations between the commercial and recreational sectors for dolphin.

A statement of significant issues raised by the public comments in response to the Initial Regulatory Flexibility Analysis. No public comments specific to the IRFA were received, and therefore, no public comments are addressed in this FRFA. Certain comments with general socio-economic implications are addressed in the comments and responses section. No changes in the final rule were made in response to public comments.

Response to comments filed by the Chief Counsel for the Advocacy of the Small Business Administration to the Initial Regulatory Flexibility Analysis. No comments were received from the Chief Counsel for the Advocacy of the Small Business Administration to the Initial Regulatory Flexibility Analysis and, thus, no changes to the rule were made in response to such comments.

A description of affected small entities. NMFS expects this final rule to directly affect federally permitted commercial fishermen harvesting snapper-grouper species or golden crab in the South Atlantic.

NMFS also expects this final rule to directly affect federally permitted commercial fishermen harvesting dolphin in the South Atlantic and off states north of North Carolina (northeastern states).

Charter vessels and headboats (for-hire vessels) sell fishing services, which include the harvest of any species considered in this final rule, to recreational anglers. These vessels provide a platform for the opportunity to fish and not a guarantee to catch or harvest any species, though expectations of successful fishing, however defined, likely factor into the decision to purchase these services. Any change in demand for these fishing services and associated economic affects as a result of regulatory changes will be a consequence of behavioral change by anglers, secondary to any direct effect on anglers and, therefore, an indirect effect of the regulatory action. Because the effects on for-hire vessels will be indirect, they fall outside the scope of the RFA. Recreational anglers, who may be directly affected by the changes in this final rule, are not small entities under the RFA.

To serve as a benchmark for determining whether a business entity is a small entity, the Small Business Administration (SBA) established size criteria for all major industry sectors in the U.S., including fish harvesters and for-hire operations. A business involved in fish harvesting is classified as a small business if independently owned and operated, is not dominant in its field of operation (including its affiliates), and its combined annual receipts are not in excess of $20.5 million (NAICS code 114111, finfish fishing) for all of its affiliated operations worldwide.

The snapper-grouper fishery is a multi-species fishery and vessels generally land many species on the same trips. Vessels in the dolphin fishery also catch other species jointly with dolphin. The golden crab fishery is more specialized than either the snapper-grouper or dolphin fishery, and there is a comparatively lower proportion of bycatch; as a result, the target species, golden crab, dominates the total catch during a trip.

Because of the possibility that some vessels land only species not affected by this final rule, the following provides a description of vessels and their revenues by focusing on the key species (black grouper, mutton snapper, yellowtail snapper, greater amberjack, red porgy, gag, golden tilefish, red grouper, snowy grouper, wreckfish, golden crab, and dolphin) addressed in this final rule. These species provide higher landings and revenues than the other affected species, such that focusing on them should provide enough information to determine if certain small entities (i.e., vessels) meet the SBA threshold for small entities. Hogfish, a recently assessed species, is not included as a key species for this analysis as it is being addressed by the Council in Amendment 37 to the Snapper-Grouper FMP. However, revenue approximations for vessels landing hogfish are noted below. The number of vessels and revenues (2013 dollars) are annual averages for the period 2009 through 2013, unless otherwise noted. Data for the years 2009 through 2013 were the latest complete 5-year data available when the Council considered the actions in this rule.

Approximately 188 vessels landing at least 1 lb (0.45 kg) of black grouper generated approximately $54,000 in revenues from black grouper and other species; 266 vessels landing at least 1 lb (0.45 kg) of mutton snapper had revenues of approximately $51,000 from mutton snapper and other species; 252 vessels landing at least 1 lb (0.45 kg) yellowtail snapper had revenues of approximately $38,000 from yellowtail snapper and other species; 295 vessels landing at least 1 lb (0.45 kg) of greater amberjack had revenues of approximately $53,000 from greater amberjack and other species; 191 vessels landing at least 1 lb (0.45 kg) of red porgy had revenues of approximately $60,000 from red porgy and other species; 273 vessels landing at least 1 lb (0.45 kg) of gag had revenues of approximately $49,000 from gag and other species; 63 vessels landing at least 1 lb (0.45 kg) of golden tilefish had revenues of approximately $68,000 from golden tilefish and other species; 278 vessels landing at least 1 lb (0.45 kg) of red grouper had revenues of approximately $50,000 from red grouper and other species; 138 vessels landing at least 1 lb (0.45 kg) of snowy grouper had revenues of approximately $78,000 from snowy grouper and other species; and 488 vessels landing at least 1 lb (0.45 kg) of dolphin had revenues of approximately $64,000 from dolphin and other species. Revenues for vessels landing at least 1 lb (0.45 kg) of wreckfish or golden crab can be approximated based on total revenues from landings of those species and the number of permits. As of August 6, 2015, there were 5 Federal wreckfish commercial permits and 11 Federal golden crab commercial permits. For fishing years 2009/2010 through 2013/2014, annual revenues from wreckfish landings averaged $752,881, implying average annual revenue per wreckfish vessel of approximately $188,000. From 2009 through 2013, annual revenues from golden crab landings averaged $1,419,843, implying average annual revenue per golden crab vessel of approximately $142,000. Most of the unassessed snapper-grouper species (almaco jack, banded rudderfish, lesser amberjack, gray snapper, lane snapper, cubera snapper, dog snapper, mahogany snapper, white grunt, sailors choice, tomtate, margate, red hind, rock hind, yellowmouth grouper, yellowfin grouper, coney, graysby, jolthead porgy, knobbed porgy, saucereye porgy, scup, whitebone porgy, Atlantic spadefish, bar jack, scamp, and gray triggerfish), and hogfish had lower dockside revenues than many of the key species. In fact, the highest dockside values of an unassessed species (scamp) were much lower than those of at least one assessed species (yellowtail snapper). Therefore, NMFS expects that revenues of vessels landing at least one lb (0.45 kg) of an unassessed species or hogfish will fall within the range of vessel revenues described above.

Some vessels, other than those in the golden crab fishery, may have caught and landed a combination of the 12 key species, hogfish, and unassessed snapper-grouper species, and revenues therefrom are included in the foregoing estimates.

Vessels that caught and landed any of the species addressed in this final rule may also operate in other fisheries, the revenues of which are not known due to lack of information and are not reflected in these totals.

Based on the revenue information provided above, all commercial vessels expected to be affected by this final rule are assumed to be small entities.

Because all entities expected to be affected by this final rule are assumed to be small entities, NMFS has determined that this rule will affect a substantial number of small entities. However, the issue of disproportionate effects on small versus large entities does not arise in the present case.

Designating a species to be overfished presupposes a stock assessment has been completed, implying that the ACL payback action, i.e., a reduction in the following year's catch limit or quota by the amount of an ACL overage, in this final rule will not apply to any unassessed snapper-grouper species. Therefore, the harvest of unassessed snapper-grouper species and associated economic benefits will remain unaffected by this final rule. NMFS notes that a stock assessment underway for gray triggerfish, an unassessed species, is expected to be completed in 2016. Of the assessed snapper-grouper species subject to the AM action in this final rule, only red porgy and snowy grouper are considered overfished. The recent stock assessment for hogfish defined three separate stocks, one of which is considered overfished and undergoing overfishing (SEDAR 37 2014). Amendment 37 to the Snapper-Grouper FMP, currently under development by the Council, will address issues specifically related to hogfish. Since 2009, the commercial sector exceeded its ACL for red porgy in 2011 and 2013 by less than 3 percent each year. On the other hand, recreational landings of red porgy have been well below the sector's ACL. Recreational landings of red porgy were 51 percent in 2012 and 48 percent in 2013 of the red porgy recreational ACL. Based on past and recent landings history, it is unlikely that the total red porgy ACL (sum of commercial and recreational sector ACLs) will be reached in the near future, so the payback action in this final rule will not be expected to affect harvesters of red porgy in the short term. The case with snowy grouper is slightly different from the other overfished snapper-grouper species. The snowy grouper commercial ACL was exceeded by less than 10 percent in 2012, 2013, and 2014, while the recreational ACL was exceeded by more than 200 percent in 2012 and 2013. For the 2014 fishing season, recreational harvest of snowy grouper was closed on June 7, 2014, because NMFS projected the recreational ACL would be met.

Based on landings history, it is likely that the payback action for snowy grouper in this final rule will adversely affect the profits of commercial vessels. The amount of payback for any ACL overages and resulting profit loss to the commercial vessels cannot be estimated due to lack of information. However, current Federal regulations enable NMFS to implement a snowy grouper in-season closure for the commercial sector and in-season monitoring and possible closure for the recreational sector if the respective sector's ACL is reached or projected to be reached. In addition, this final rule will implement an in-season closure for the snowy grouper recreational sector once the recreational ACL is reached or is projected to be reached.

These current measures and this final rule are expected to limit the amount of any ACL overage, meaning that the resulting loss in profits to commercial vessels due to the ACL payback provision should be small.

The commercial and recreational sector re-allocation of the ACL for dolphin will increase the ACL share of the commercial sector at the expense of the recreational sector. In theory, this would tend to increase the revenues or profits of commercial vessels and potentially reduce the revenues or profits of for-hire vessels. In practice, commercial vessels are not expected to experience any profit changes in the near-term based on historical landings for the sector from 2009 through 2013. Relative to the new sector allocations, based on applying the new allocation ratios to the current total ACL, commercial landings of dolphin (based on 2009-2013 commercial landings) are projected to range from 33 percent to 80 percent of the commercial ACL. In the years 2009 through 2013, the highest commercial landings occurred in 2009 and the lowest in 2013. However, commercial fishing for dolphin closed this fishing year on June 30, 2015, when the commercial sector reached its ACL. If future commercial landings of dolphin were equal to or greater than they were in 2015, the new allocation ratio may be expected to increase the revenues, and possibly profits, of commercial vessels. As noted earlier, for-hire vessels will only be affected indirectly by this final rule.

Projected reporting, recordkeeping and other compliance requirements. This rule would not impose any new reporting, recordkeeping, or other compliance requirements.

Minimizing impact on small entities and significant alternatives considered. Four alternatives, including the preferred alternative (as described in the preamble), were considered for the AMs of reducing the following year's commercial ACL by the amount of the commercial overage. The first alternative, the no-action alternative, would not impose an ACL payback provision for gag, golden tilefish, snowy grouper, wreckfish, and golden crab while retaining the ACL payback provision for the other species addressed in this action. This alternative would not address the need to create a consistent regulatory environment while preventing unnecessary negative socio-economic impacts, and ensure overfishing does not occur in accordance with the provisions set forth in the Magnuson-Stevens Act. The second alternative would require an ACL payback for ACL overages only if the species is overfished, and the third alternative would require a payback only if the combined total of commercial and recreational ACLs is exceeded. These two alternatives are more restrictive than the preferred alternative and, therefore, would be expected to have potentially larger adverse short-term economic effects on commercial entities than the preferred alternative.

Because the commercial and recreational sector re-allocation of the ACL for dolphin is not expected to result in any negative effects on any directly affected entities, the issue of significant alternatives to reduce any significant negative effects is not relevant.

Small Entity Compliance Guide

Section 212 of the Small Business Regulatory Enforcement Fairness Act of 1996 states that, for each rule or group of related rules for which an agency is required to prepare a FRFA, the agency shall publish one or more guides to assist small entities in complying with the rule, and shall designate such publications as small entity compliance guides. As part of the rulemaking process, NMFS prepared a fishery bulletin, which also serves as a small entity compliance guide. The fishery bulletin will be sent to all interested parties.

List of Subjects in 50 CFR Part 622

Accountability measure, Annual catch limit, Dolphin, Fisheries, Fishing, Golden crab, Snapper-grouper, South Atlantic.

Dated: January 15, 2016.
Eileen Sobeck,
Assistant Administrator for Fisheries, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.190, revise paragraph (a)(6) to read as follows:

§ 622.190 Quotas.

* * * * *

(a) * * *

(6) Red porgy—157,692 lb (71,528 kg), gutted weight; 164,000 lb (74,389 kg), round weight.

* * * * *

3. In § 622.193, revise paragraphs (a) through (d), (g), (i), (j) through (r), and (t) through (x) to read as follows:

§ 622.193 Annual catch limits (ACLs), annual catch targets (ACTs), and accountability measures (AMs).

(a) Golden tilefish—(1) Commercial sector—(i) Hook-and-line component. If commercial landings for golden tilefish, as estimated by the SRD, reach or are projected to reach the commercial ACL (commercial quota) specified in § 622.190(a)(2)(ii), the AA will file a notification with the Office of the Federal Register to close the hook-and-line component of the commercial sector for the remainder of the fishing year. Applicable restrictions after a commercial quota closure are specified in § 622.190(c).

(ii) Longline component. If commercial landings for golden tilefish, as estimated by the SRD, reach or are projected to reach the commercial ACL (commercial quota) specified in § 622.190(a)(2)(iii), the AA will file a notification with the Office of the Federal Register to close the longline component of the commercial sector for the remainder of the fishing year. After the commercial ACL for the longline component is reached or projected to be reached, golden tilefish may not be fished for or possessed by a vessel with a golden tilefish longline endorsement. Applicable restrictions after a commercial quota closure are specified in § 622.190(c).

(iii) If commercial landings for golden tilefish, as estimated by the SRD, exceed the commercial ACL (including both the hook-and-line and longline component ACLs) specified in § 622.190(a)(2)(i), and the combined commercial and recreational ACL of 558,036 lb (253,121 kg), gutted weight, 625,000 lb (283,495 kg), round weight, is exceeded during the same fishing year, and golden tilefish are overfished based on the most recent Status of U.S. Fisheries Report to Congress, the AA will file a notification with the Office of the Federal Register to reduce the commercial ACL for that following fishing year by the amount of the commercial ACL overage in the prior fishing year.

(2) Recreational sector. (i) If recreational landings for golden tilefish, as estimated by the SRD, reach or are projected to reach the recreational ACL of 3,019 fish, the AA will file a notification with the Office of the Federal Register to close the recreational sector for the remainder of the fishing year regardless if the stock is overfished, unless NMFS determines that no closure is necessary based on the best scientific information available. On and after the effective date of such a notification, the bag and possession limits for golden tilefish in or from the South Atlantic EEZ are zero.

(ii) If recreational landings for golden tilefish, as estimated by the SRD, exceed the recreational ACL, then during the following fishing year recreational landings will be monitored for a persistence in increased landings, and if necessary, the AA will file a notification with the Office of the Federal Register to reduce the length of the recreational fishing season and the recreational ACL by the amount of the recreational ACL overage, if the species is overfished based on the most recent Status of U.S. Fisheries Report to Congress, and if the combined commercial and recreational ACL of 558,036 lb (253,121 kg), gutted weight, 625,000 lb (285,495 kg), round weight, is exceeded during the same fishing year. The AA will use the best scientific information available to determine if reducing the length of the recreational fishing season and recreational ACL is necessary. When the recreational sector is closed as a result of NMFS reducing the length of the recreational fishing season and ACL, the bag and possession limits for golden tilefish in or from the South Atlantic EEZ are zero.

(b) Snowy grouper—(1) Commercial sector. (i) If commercial landings for snowy grouper, as estimated by the SRD, reach or are projected to reach the commercial ACL (commercial quota) specified in § 622.190(a)(1), the AA will file a notification with the Office of the Federal Register to close the commercial sector for the remainder of the fishing year. Applicable restrictions after a commercial quota closure are specified in § 622.190(c).

(ii) If commercial landings for snowy grouper, as estimated by the SRD, exceed the commercial ACL, and the combined commercial and recreational ACL specified in § 622.193(b)(1)(iii) is exceeded, and snowy grouper are overfished based on the most recent Status of U.S. Fisheries Report to Congress, the AA will file a notification with the Office of the Federal Register to reduce the commercial ACL for that following fishing year by the amount of the commercial ACL overage in the prior fishing year.

(iii) The combined commercial and recreational ACL for snowy grouper is 139,098 lb (63,094 kg), gutted weight, 164,136 lb (74,451 kg), round weight, for 2015; 151,518 lb (68,727 kg), gutted weight, 178,791 lb (81,098 kg), round weight, for 2016; 163,109 lb (73,985 kg), gutted weight, 192,469 lb (87,302 kg), round weight, for 2017; 173,873 lb (78,867 kg), gutted weight, 205,170 lb (93,064 kg), round weight, for 2018; 185,464 lb (84,125 kg), gutted weight, 218,848 lb (99,268 kg), round weight, for 2019 and subsequent years.

(2) Recreational sector. (i) If recreational landings for snowy grouper, as estimated by the SRD, reach or are projected to reach the recreational ACL, the AA will file a notification with the Office of the Federal Register to close the recreational sector for the remainder of the fishing year regardless if the stock is overfished, unless NMFS determines that no closure is necessary based on the best scientific information available. On and after the effective date of such notification, the bag and possession limits for snowy grouper in or from the South Atlantic EEZ are zero. The recreational ACL for snowy grouper is 4,152 fish for 2015; 4,483 fish for 2016; 4,819 fish for 2017, 4,983 fish for 2018; 5,315 fish for 2019 and subsequent fishing years.

(ii) If recreational landings for snowy grouper, as estimated by the SRD, exceed the recreational ACL, then during the following fishing year recreational landings will be monitored for a persistence in increased landings, and if necessary, the AA will file a notification with the Office of the Federal Register to reduce the length of the recreational fishing season and the recreational ACL by the amount of the recreational ACL overage, if snowy grouper are overfished based on the most recent Status of U.S. Fisheries Report to Congress, and if the combined commercial and recreational ACL specified in § 622.193(b)(1)(iii) is exceeded during the same fishing year. NMFS will use the best scientific information available to determine if reducing the length of the recreational fishing season and recreational ACL is necessary. When the recreational sector is closed as a result of NMFS reducing the length of the recreational fishing season and ACL, the bag and possession limits for snowy grouper in or from the South Atlantic EEZ are zero.

(c) Gag—(1) Commercial sector. (i) If commercial landings for gag, as estimated by the SRD, reach or are projected to reach the commercial quota specified in § 622.190(a)(7), the AA will file a notification with the Office of the Federal Register to close the commercial sector for gag for the remainder of the fishing year. Applicable restrictions after a commercial quota closure are specified in § 622.190(c).

(ii) If the commercial landings for gag, as estimated by the SRD, exceed the commercial ACL specified in § 622.193(c)(1)(iii), and the combined commercial and recreational ACL specified in § 622.193(c)(1)(iv), is exceeded during the same fishing year, and gag are overfished based on the most recent Status of U.S. Fisheries Report to Congress, the AA will file a notification with the Office of the Federal Register to reduce the commercial ACL for that following fishing year by the amount of the commercial ACL overage in the prior fishing year.

(iii) The commercial ACL for gag is 322,677 lb (146,364 kg), gutted weight, 380,759 lb (172,709 kg), round weight, for 2015; 325,100 lb (147,463 kg), gutted weight, 383,618 lb (174,006 kg), round weight, for 2016; 345,449 lb (197,516 kg), gutted weight, 407,630 lb (184,898 kg), round weight, for 2017; 362,406 lb (164,385 kg), gutted weight, 427,639 lb (193,974 kg), round weight, for 2018; and 374,519 lb (169,879 kg), gutted weight, 441,932 lb (200,457 kg), round weight, for 2019 and subsequent fishing years.

(iv) The combined commercial and recreational ACL for gag is 632,700 lb (286,988 kg), gutted weight, 746,586 lb (338,646 kg), round weight, for 2015; 637,451 lb (289,143 kg), gutted weight, 752,192 lb (341,189 kg), round weight, for 2016; 677,351 lb (307,241 kg), gutted weight, 799,274 lb (362,545 kg), round weight, for 2017; 710,600 lb (322,323 kg), gutted weight, 838,508 lb (380,341 kg), round weight, for 2018; and 734,351 lb (333,096 kg), gutted weight, 866,534 lb (393,053 kg), round weight, for 2019 and subsequent fishing years.

(2) Recreational sector. (i) If recreational landings for gag, as estimated by the SRD, reach or are projected to reach the recreational ACL, the AA will file a notification with the Office of the Federal Register to close the recreational sector for the remainder of the fishing year regardless if the stock is overfished, unless NMFS determines that no closure is necessary based on the best scientific information available. On and after the effective date of such notification, the bag and possession limits for gag in or from the South Atlantic EEZ are zero. The recreational ACL for gag is 310,023 lb (148,025 kg), gutted weight, 365,827 (165,936 kg), round weight, for 2015; 312,351 lb (149,137 kg), gutted weight, 368,574 lb (175,981 kg), round weight, for 2016; 331,902 lb (158,472 kg), gutted weight, 391,644 lb (186,997 kg), round weight, for 2017; 348,194 lb (166,251 kg), gutted weight, 410,869 lb (196,176 kg), round weight, for 2018; and 359,832 lb (171,807 kg), gutted weight, 424,602 lb (202,733 kg), round weight, for 2019 and subsequent fishing years.

(ii) If recreational landings for gag, as estimated by the SRD, exceed the recreational ACL, then during the following fishing year recreational landings will be monitored for a persistence in increased landings, and if necessary, the AA will file a notification with the Office of the Federal Register to reduce the length of the recreational fishing season and the recreational ACL by the amount of the recreational ACL overage, if the species is overfished based on the most recent Status of U.S. Fisheries Report to Congress, and if the combined commercial and recreational ACL specified in § 622.193(c)(1)(iv) is exceeded during the same fishing year. NMFS will use the best scientific information available to determine if reducing the length of the recreational fishing season and recreational ACL is necessary. When the recreational sector is closed as a result of NMFS reducing the length of the recreational fishing season and ACL, the bag and possession limits for gag in or from the South Atlantic EEZ are zero.

(d) Red grouper—(1) Commercial sector. (i) If commercial landings for red grouper, as estimated by the SRD, reach or are projected to reach the commercial ACL of 343,200 lb (155,673 kg), round weight, the AA will file a notification with the Office of the Federal Register to close the commercial sector for the remainder of the fishing year. On and after the effective date of such a notification, all sale or purchase of red grouper is prohibited and harvest or possession of red grouper in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If the commercial landings for red grouper, as estimated by the SRD, exceed the commercial ACL, and the combined commercial and recreational ACL of 780,000 lb (353,802 kg), round weight, is exceeded during the same fishing year, and the species is overfished based on the most recent Status of U.S. Fisheries Report to Congress, the AA will file a notification with the Office of the Federal Register to reduce the commercial ACL in the following fishing year by the amount of the commercial ACL overage in the prior fishing year.

(2) Recreational sector. (i) If recreational landings for red grouper, as estimated by the SRD, are projected to reach the recreational ACL of 436,800 lb (198,129 kg), round weight, the AA will file a notification with the Office of the Federal Register to close the recreational sector for the remainder of the fishing year regardless if the stock is overfished, unless NMFS determines that no closure is necessary based on the best scientific information available. On and after the effective date of such a notification, the bag and possession limits for red grouper in or from the South Atlantic EEZ are zero.

(ii) If recreational landings for red grouper, as estimated by the SRD, exceed the recreational ACL, then during the following fishing year recreational landings will be monitored for a persistence in increased landings, and if necessary, the AA will file a notification with the Office of the Federal Register to reduce the length of the recreational fishing season and the recreational ACL by the amount of the recreational ACL overage, if the species is overfished based on the most recent Status of U.S. Fisheries Report to Congress, and if the combined commercial and recreational ACL of 780,000 lb (353,802 kg), round weight, is exceeded during the same fishing year. The AA will use the best scientific information available to determine if reducing the length of the recreational season and recreational ACL is necessary. When the recreational sector is closed as a result of NMFS reducing the length of the recreational fishing season and ACL, the bag and possession limits for red grouper in or from the South Atlantic EEZ are zero.

* * * * *

(g) Black grouper—(1) Commercial sector. (i) If commercial landings for black grouper, as estimated by the SRD, reach or are projected to reach the commercial ACL of 96,844 lb (43,928 kg), round weight, the AA will file a notification with the Office of the Federal Register to close the commercial sector for the remainder of the fishing year. On and after the effective date of such a notification, all sale or purchase of black grouper is prohibited and harvest or possession of black grouper in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for black grouper, as estimated by the SRD, exceed the commercial ACL, and the combined commercial and recreational ACL of 262,594 lb (119,111 kg), round weight, is exceeded during the same fishing year, and the species is overfished based on the most recent Status of U.S. Fisheries Report to Congress, the AA will file a notification with the Office of the Federal Register to reduce the commercial ACL for that following fishing year by the amount of the commercial ACL overage in the prior fishing year.

(2) Recreational sector. (i) If recreational landings for black grouper, as estimated by the SRD, reach or are projected to reach the recreational ACL of 165,750 lb (75,183 kg), round weight, and the AA determines that a closure is necessary by using the best scientific information available, the AA will file a notification with the Office of the Federal Register to close the recreational sector for the remainder of the fishing year regardless if the stock is overfished, unless NMFS determines that no closure is necessary based on the best scientific information available. On and after the effective date of such a notification, the bag and possession limits for black grouper in or from the South Atlantic EEZ are zero.

(ii) If recreational landings for black grouper, as estimated by the SRD, exceed the recreational ACL, then during the following fishing year recreational landings will be monitored for a persistence in increased landings, and if necessary, the AA will file a notification with the Office of the Federal Register to reduce the length of the recreational fishing season and the recreational ACL by the amount of the recreational ACL overage, if black grouper are overfished based on the most recent Status of U.S. Fisheries Report to Congress, and if the combined commercial and recreational ACL of 262,594 lb (119,111 kg), round weight, is exceeded during the same fishing year. NMFS will use the best scientific information available to determine if reducing the length of the recreational fishing season and recreational ACL is necessary. When the recreational sector is closed as a result of NMFS reducing the length of the recreational fishing season and ACL, the bag and possession limits for black grouper in or from the South Atlantic EEZ are zero.

* * * * *

(i) Scamp—(1) Commercial sector. (i) If commercial landings for scamp, as estimated by the SRD, reach or are projected to reach the commercial ACL of 219,375 lb (99,507 kg), round weight, the AA will file a notification with the Office of the Federal Register to close the commercial sector for the remainder of the fishing year. On and after the effective date of such a notification, all sale or purchase of scamp is prohibited and harvest or possession of scamp in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for scamp, as estimated by the SRD, exceed the commercial ACL, and the combined commercial and recreational ACL of 335,744 lb (152,291 kg), round weight, is exceeded, and scamp are overfished based on the most recent Status of U.S. Fisheries Report to Congress, the AA will file a notification with the Office of the Federal Register to reduce the commercial ACL for that following fishing year by the amount of the commercial ACL overage in the prior fishing year.

(2) Recreational sector. (i) If recreational landings for scamp, as estimated by the SRD, reach or are projected to reach the recreational ACL of 116,369 lb (52,784 kg), round weight, the AA will file a notification with the Office of the Federal Register to close the recreational sector for the remainder of the fishing year regardless if the stock is overfished, unless NMFS determines that no closure is necessary based on the best scientific information available. On and after the effective date of such a notification, the bag and possession limits for scamp in or from the South Atlantic EEZ are zero.

(ii) If recreational landings for scamp, as estimated by the SRD, exceed the recreational ACL, then during the following fishing year recreational landings will be monitored for a persistence in increased landings, and if necessary, the AA will file a notification with the Office of the Federal Register to reduce the length of the recreational fishing season and the recreational ACL by the amount of the recreational ACL overage, if scamp are overfished based on the most recent Status of U.S. Fisheries Report to Congress, and if the combined commercial and recreational ACL of 335,744 lb (152,291 kg), round weight, is exceeded during the same fishing year. NMFS will use the best scientific information available to determine if reducing the length of the recreational fishing season and recreational ACL is necessary. When the recreational sector is closed as a result of NMFS reducing the length of the recreational fishing season and ACL, the bag and possession limits for scamp in or from the South Atlantic EEZ are zero.

(j) Other SASWG combined (including red hind, rock hind, yellowmouth grouper, yellowfin grouper, coney, and graysby)—(1) Commercial sector. (i) If commercial landings for other SASWG combined, as estimated by the SRD, reach or are projected to reach the commercial ACL of 55,542 lb (25,193 kg), round weight, the AA will file a notification with the Office of the Federal Register to close the commercial sector for this complex for the remainder of the fishing year. On and after the effective date of such a notification, all sale or purchase of red hind, rock hind, yellowmouth grouper, yellowfin grouper, coney, and graysby is prohibited, and harvest or possession of any of these species in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for other SASWG combined, as estimated by the SRD, exceed the commercial ACL, and the combined commercial and recreational ACL of 104,190 lb (47,260 kg), round weight, is exceeded, and at least one of the species in other SASWG combined is overfished based on the most recent status of U.S. Fisheries Report to Congress, the AA will file a notification with the Office of the Federal Register to reduce the commercial ACL for that following fishing year by the amount of the commercial ACL overage in the prior fishing year.

(2) Recreational sector. (i) If recreational landings for other SASWG combined, as estimated by the SRD, reach or are projected to reach the recreational ACL of 48,648 lb (22,066 kg), round weight, the AA will file a notification with the Office of the Federal Register to close the recreational sector for the remainder of the fishing year regardless if any stock in other SASWG combined is overfished, unless NMFS determines that no closure is necessary based on the best scientific information available. On and after the effective date of such a notification, the bag and possession limits for any species in the other SASWG combined in or from the South Atlantic EEZ are zero.

(ii) If recreational landings for other SASWG combined, as estimated by the SRD, exceed the recreational ACL, then during the following fishing year recreational landings will be monitored for a persistence in increased landings, and if necessary, the AA will file a notification with the Office of the Federal Register to reduce the length of the recreational fishing season and the recreational ACL by the amount of the recreational ACL overage, if at least one of the species in other SASWG combined is overfished based on the most recent Status of U.S. Fisheries Report to Congress, and if the combined commercial and recreational ACL of 104,190 lb (47,260 kg) is exceeded during the same fishing year. NMFS will use the best scientific information available to determine if reducing the length of the recreational fishing season and recreational ACL is necessary. When the recreational sector is closed as a result of NMFS reducing the length of the recreational fishing season and ACL, the bag and possession limits for any species in the other SASWG combined in or from the South Atlantic EEZ are zero.

(k) Greater amberjack—(1) Commercial sector. (i) If commercial landings for greater amberjack, as estimated by the SRD, reach or are projected to reach the commercial ACL (commercial quota) specified in § 622.190(a)(3), the AA will file a notification with the Office of the Federal Register to close the commercial sector for the remainder of the fishing year. Applicable restrictions after a commercial quota closure are specified in § 622.190(c).

(ii) If commercial landings for greater amberjack, as estimated by the SRD, exceed the commercial ACL, and the combined commercial and recreational ACL of 1,968,001 lb (892,670 kg), round weight, is exceeded during the same fishing year, and the species is overfished based on the most recent Status of U.S. Fisheries Report to Congress, the AA will file a notification with the Office of the Federal Register to reduce the commercial ACL in the following fishing year by the amount of the commercial ACL overage in the prior fishing year.

(2) Recreational sector. (i) If recreational landings for greater amberjack, as estimated by the SRD, reach or are projected to reach the recreational ACL of 1,167,837 lb (529,722 kg), round weight, the AA will file a notification with the Office of the Federal Register to close the recreational sector for the remainder of the fishing year regardless if the stock is overfished, unless NMFS determines that no closure is necessary based on the best scientific information available. On and after the effective date of such a notification, the bag and possession limits for greater amberjack in or from the South Atlantic EEZ are zero.

(ii) If recreational landings for greater amberjack, as estimated by the SRD, exceed the recreational ACL, then during the following fishing year recreational landings will be monitored for a persistence in increased landings, and if necessary, the AA will file a notification with the Office of the Federal Register to reduce the length of the recreational fishing season and recreational ACL by the amount of the recreational ACL overage, if the species is overfished based on the most recent Status of U.S. Fisheries Report to Congress, and if the combined commercial and recreational ACL of 1,968,001 lb (892,670 kg), round weight, is exceeded during the same fishing year. The AA will use the best scientific information available to determine if reducing the length of the recreational season and recreational ACL is necessary. When the recreational sector is closed as a result of NMFS reducing the length of the recreational fishing season and ACL, the bag and possession limits for greater amberjack in or from the South Atlantic EEZ are zero.

(l) Other jacks complex (including lesser amberjack, almaco jack, and banded rudderfish, combined)—(1) Commercial sector. (i) If commercial landings for the other jacks complex, as estimated by the SRD, reach or are projected to reach the commercial ACL of 189,422 lb (85,920 kg), round weight, the AA will file a notification with the Office of the Federal Register to close the commercial sector for the other jacks complex for the remainder of the fishing year. On and after the effective date of such a notification, all sale or purchase of lesser amberjack, almaco jack, and banded rudderfish is prohibited, and harvest or possession of any of these species in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for the other jacks complex, as estimated by the SRD, exceed the commercial ACL, and the combined commercial and recreational ACL of 457,221 lb (207,392 kg), round weight, is exceeded, and at least one of the species in the other jacks complex is overfished based on the most recent Status of U.S. Fisheries Report to Congress, the AA will file a notification with the Office of the Federal Register to reduce the commercial ACL for that following fishing year by the amount of the commercial ACL overage in the prior fishing year.

(2) Recreational sector. (i) If recreational landings for the other jacks complex, as estimated by the SRD, reach or are projected to reach the recreational ACL of 267,799 lb (121,472 kg), round weight, the AA will file a notification with the Office of the Federal Register to close the recreational sector for the remainder of the fishing year regardless if any stock in the other jacks complex is overfished, unless NMFS determines that no closure is necessary based on the best scientific information available. On and after the effective date of such a notification, the bag and possession limits for any species in the other jacks complex in or from the South Atlantic EEZ are zero.

(ii) If recreational landings for the other jacks complex, as estimated by the SRD, exceed the recreational ACL, then during the following fishing year recreational landings will be monitored for a persistence in increased landings, and if necessary, the AA will file a notification with the Office of the Federal Register to reduce the length of the recreational fishing season and the recreational ACL by the amount of the recreational ACL overage, if at least one of the species in the other jacks complex is overfished based on the most recent Status of U.S. Fisheries Report to Congress, and if the combined commercial and recreational ACL of 457,221 lb (207,392 kg), round weight, is exceeded during the same fishing year. NMFS will use the best scientific information available to determine if reducing the length of the recreational fishing season and recreational ACL is necessary. When the recreational sector is closed as a result of NMFS reducing the length of the recreational fishing season and ACL, the bag and possession limits for any species in the other jacks complex in or from the South Atlantic EEZ are zero.

(m) Bar jack—(1) Commercial sector. (i) If commercial landings for bar jack, as estimated by the SRD, reach or are projected to reach the commercial ACL of 13,228 lb (6,000 kg), round weight, the AA will file a notification with the Office of the Federal Register to close the commercial sector for the remainder of the fishing year. On and after the effective date of such a notification, all sale or purchase of bar jack is prohibited and harvest or possession of bar jack in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for bar jack, as estimated by the SRD, exceed the commercial ACL, and the combined commercial and recreational ACL of 62,249 lb (28,236 kg), round weight, is exceeded, and bar jack are overfished based on the most recent Status of U.S. Fisheries Report to Congress, the AA will file a notification with the Office of the Federal Register to reduce the commercial ACL for that following fishing year by the amount of the commercial ACL overage in the prior fishing year.

(2) Recreational sector. (i) If recreational landings for bar jack, as estimated by the SRD, reach or are projected to reach the recreational ACL of 49,021 lb (22,236 kg), round weight, the AA will file a notification with the Office of the Federal Register to close the recreational sector for the remainder of the fishing year regardless if the stock is overfished, unless NMFS determines that no closure is necessary based on the best scientific information available. On and after the effective date of such a notification, the bag and possession limits for bar jack in or from the South Atlantic EEZ are zero.

(ii) If recreational landings for bar jack, as estimated by the SRD, exceed the recreational ACL, then during the following fishing year recreational landings will be monitored for a persistence in increased landings, and if necessary, the AA will file a notification with the Office of the Federal Register to reduce the length of the recreational fishing season and the recreational ACL by the amount of the recreational ACL overage, if bar jack are overfished based on the most recent Status of U.S. Fisheries Report to Congress, and if the combined commercial and recreational ACL of 62,249 lb (28,236 kg), round weight, is exceeded during the same fishing year. NMFS will use the best scientific information available to determine if reducing the length of the recreational fishing season and recreational ACL is necessary. When the recreational sector is closed as a result of NMFS reducing the length of the recreational fishing season and ACL, the bag and possession limits for bar jack in or from the South Atlantic EEZ are zero.

(n) Yellowtail snapper—(1) Commercial sector. (i) If commercial landings for yellowtail snapper, as estimated by the SRD, reach or are projected to reach the commercial ACL of 1,596,510 lb (724,165 kg), round weight, the AA will file a notification with the Office of the Federal Register to close the commercial sector for the remainder of the fishing year. On and after the effective date of such a notification, all sale or purchase of yellowtail snapper is prohibited and harvest or possession of yellowtail snapper in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for yellowtail snapper, as estimated by the SRD, exceed the commercial ACL, and the combined commercial and recreational ACL of 3,037,500 lb (1,377,787 kg), round weight, is exceeded during the same fishing year, and yellowtail snapper are overfished based on the most recent Status of U.S. Fisheries Report to Congress, the AA will file a notification with the Office of the Federal Register to reduce the commercial ACL for that following fishing year by the amount of the commercial ACL overage in the prior fishing year.

(2) Recreational sector. (i) If recreational landings for yellowtail snapper, as estimated by the SRD, reach or are projected to reach the recreational ACL of 1,440,990 lb (653,622 kg), round weight, the AA will file a notification with the Office of the Federal Register to close the recreational sector for the remainder of the fishing year regardless if the stock is overfished, unless NMFS determines that no closure is necessary based on the best scientific information available. On and after the effective date of such a notification, the bag and possession limits for yellowtail snapper in or from the South Atlantic EEZ are zero.

(ii) If recreational landings for yellowtail snapper, as estimated by the SRD, exceed the recreational ACL, then during the following fishing year recreational landings will be monitored for a persistence in increased landings, and if necessary, the AA will file a notification with the Office of the Federal Register to reduce the length of the recreational fishing season and the recreational ACL by the amount of the recreational ACL overage, if the species is overfished based on the most recent Status of U.S. Fisheries Report to Congress, and if the combined commercial and recreational ACL of 3,037,500 lb (1,377,787 kg), round weight, is exceeded during the same fishing year. The AA will use the best scientific information available to determine if reducing the length of the recreational fishing season and recreational ACL is necessary. When the recreational sector is closed as a result of NMFS reducing the length of the recreational fishing season and ACL, the bag and possession limits for yellowtail snapper in or from the South Atlantic EEZ are zero.

(o) Mutton snapper—(1) Commercial sector. (i) If commercial landings for mutton snapper, as estimated by the SRD, reach or are projected to reach the commercial ACL of 157,743 lb (71,551 kg), round weight, the AA will file a notification with the Office of the Federal Register to close the commercial sector for the remainder of the fishing year. On and after the effective date of such a notification, all sale or purchase of mutton snapper is prohibited and harvest or possession of mutton snapper in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for mutton snapper, as estimated by the SRD, exceed the commercial ACL, and the combined commercial and recreational ACL of 926,600 lb (420,299 kg), round weight, is exceeded during the same fishing year, and the species is overfished based on the most recent Status of U.S. Fisheries Report to Congress, the AA will file a notification with the Office of the Federal Register to reduce the commercial ACL in the following fishing year by the amount of the commercial ACL overage in the prior fishing year.

(2) Recreational sector. (i) If recreational landings for mutton snapper, as estimated by the SRD, reach or are projected to reach the recreational ACL of 768,857 lb (348,748 kg), round weight, the AA will file a notification with the Office of the Federal Register to close the recreational sector for the remainder of the fishing year regardless if the stock is overfished, unless NMFS determines that no closure is necessary based on the best scientific information available. On and after the effective date of such a notification, the bag and possession limits for mutton snapper in or from the South Atlantic EEZ are zero.

(ii) If recreational landings for mutton snapper, as estimated by the SRD, exceed the recreational ACL, then during the following fishing year recreational landings will be monitored for a persistence in increased landings, and if necessary, the AA will file a notification with the Office of the Federal Register to reduce the length of the recreational fishing season and the recreational ACL by the amount of the recreational ACL overage, if the species is overfished based on the most recent Status of U.S. Fisheries Report to Congress, and if the combined commercial and recreational ACL of 926,600 lb (420,299 kg), round weight, is exceeded during the same fishing year. NMFS will use the best scientific information available to determine if reducing the length of the recreational fishing season and recreational ACL is necessary. When the recreational sector is closed as a result of NMFS reducing the length of the recreational fishing season and ACL, the bag and possession limits for mutton snapper in or from the South Atlantic EEZ are zero.

(p) Other snappers complex (including cubera snapper, gray snapper, lane snapper, dog snapper, and mahogany snapper)—(1) Commercial sector. (i) If commercial landings for the other snappers complex, as estimated by the SRD, reach or are projected to reach the complex commercial ACL of 344,884 lb (156,437 kg), round weight, the AA will file a notification with the Office of the Federal Register to close the commercial sector for this complex for the remainder of the fishing year. On and after the effective date of such a notification, all sale or purchase of cubera snapper, gray snapper, lane snapper, dog snapper, and mahogany snapper is prohibited, and harvest or possession of any of these species in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for the other snappers complex, as estimated by the SRD, exceed the commercial ACL, and the combined commercial and recreational ACL of 1,517,716 lb (688,424 kg), round weight, is exceeded, and at least one of the species in the other snappers complex is overfished based on the most recent Status of U.S. Fisheries Report to Congress, the AA will file a notification with the Office of the Federal Register to reduce the commercial ACL for that following fishing year by the amount of the commercial ACL overage in the prior fishing year.

(2) Recreational sector. (i) If recreational landings for the other snappers complex, as estimated by the SRD, reach or are projected to reach the recreational ACL of 1,172,832 lb (531,988 kg), round weight, the AA will file a notification with the Office of the Federal Register to close the recreational sector for the remainder of the fishing year regardless if any stock in the other snappers complex is overfished, unless NMFS determines that no closure is necessary based on the best scientific information available. On and after the effective date of such a notification, the bag and possession limits for any species in the other snappers complex in or from the South Atlantic EEZ are zero.

(ii) If recreational landings for the other snappers complex, as estimated by the SRD, exceed the recreational ACL, then during the following fishing year recreational landings will be monitored for a persistence in increased landings, and if necessary, the AA will file a notification with the Office of the Federal Register to reduce the length of the recreational fishing season and the recreational ACL by the amount of the recreational ACL overage, if at least one of the species in the other snappers complex is overfished based on the most recent Status of U.S. Fisheries Report to Congress, and the combined commercial and recreational ACL of 1,517,716 lb (688,424 kg), round weight, is exceeded during the same fishing year. NMFS will use the best scientific information available to determine if reducing the length of the recreational fishing season and recreational ACL is necessary. When the recreational sector is closed as a result of NMFS reducing the length of the recreational fishing season and ACL, the bag and possession limits for any species in the other snappers complex in or from the South Atlantic EEZ are zero.

(q) Gray triggerfish—(1) Commercial sector. (i) If commercial landings for gray triggerfish, as estimated by the SRD, reach or are projected to reach the commercial ACL (commercial quota) specified in § 622.190(a)(8)(i) or (ii), the AA will file a notification with the Office of the Federal Register to close the commercial sector for the remainder of the fishing year. Applicable restrictions after a commercial quota closure are specified in § 622.190(c).

(ii) If commercial landings for gray triggerfish, as estimated by the SRD, exceed the commercial ACL, and the combined commercial and recreational ACL of 716,999 lb (325,225 kg), round weight, is exceeded, and gray triggerfish are overfished based on the most recent Status of U.S. Fisheries Report to Congress, the AA will file a notification with the Office of the Federal Register to reduce the commercial ACL for that following fishing year by the amount of the commercial ACL overage in the prior fishing year.

(2) Recreational sector. (i) If recreational landings for gray triggerfish, as estimated by the SRD, reach or are projected to reach the recreational ACL of 404,675 lb (183,557 kg), round weight, the AA will file a notification with the Office of the Federal Register to close the recreational sector for the remainder of the fishing year regardless if the stock is overfished, unless NMFS determines that no closure is necessary based on the best scientific information available. On and after the effective date of such a notification, the bag and possession limits for gray triggerfish in or from the South Atlantic EEZ are zero.

(ii) If recreational landings for gray triggerfish, as estimated by the SRD, exceed the recreational ACL, then during the following fishing year recreational landings will be monitored for a persistence in increased landings, and if necessary, the AA will file a notification with the Office of the Federal Register to reduce the length of the recreational fishing season and the recreational ACL by the amount of the recreational ACL overage, if gray triggerfish are overfished based on the most recent Status of U.S. Fisheries Report to Congress, and if the combined commercial and recreational ACL of 716,999 lb (325,225 kg), round weight, is exceeded during the same fishing year. NMFS will use the best scientific information available to determine if reducing the length of the recreational fishing season and recreational ACL is necessary. When the recreational sector is closed as a result of NMFS reducing the length of the recreational fishing season and ACL, the bag and possession limits for gray triggerfish in or from the South Atlantic EEZ are zero.

(r) Wreckfish—(1) Commercial sector. (i) The ITQ program for wreckfish in the South Atlantic serves as the accountability measures for commercial wreckfish. The commercial ACL for wreckfish is equal to the commercial quota specified in § 622.190(b). Applicable restrictions after a commercial quota closure are specified in § 622.190(c).

(ii) The combined commercial and recreational ACL for wreckfish is 433,000 lb (196,405 kg), round weight, for 2015; 423,700 lb (192,187 kg), round weight, for 2016; 414,200 lb (187,878 kg), round weight, for 2017; 406,300 lb (184,295 kg), round weight, for 2018; 396,800 lb (179,985 kg), round weight, for 2019; and 389,100 lb (176,493 kg), round weight, for 2020 and subsequent fishing years.

(2) Recreational sector. (i) If recreational landings for wreckfish, as estimated by the SRD, reach or are projected to reach the recreational ACL specified in § 622.193(r)(2)(iii), the AA will file a notification with the Office of the Federal Register to close the recreational sector for the remainder of the fishing year regardless if the stock is overfished, unless NMFS determines that no closure is necessary based on the best scientific information available. On and after the effective date of such a notification, the bag and possession limits for wreckfish in or from the South Atlantic EEZ are zero.

(ii) If recreational landings for wreckfish, as estimated by the SRD, exceed the recreational ACL, then during the following fishing year recreational landings will be monitored for a persistence in increased landings, and if necessary, the AA will file a notification with the Office of the Federal Register to reduce the length of the recreational fishing season and the recreational ACL by the amount of the recreational ACL overage, if the species is overfished based on the most recent Status of U.S. Fisheries Report to Congress, and if the combined commercial and recreational ACL specified in § 622.193(r)(1)(ii) is exceeded during the same fishing year. The AA will use the best scientific information available to determine if reducing the length of the recreational fishing season and recreational ACL is necessary. When the recreational sector is closed as a result of NMFS reducing the length of the recreational fishing season and ACL, the bag and possession limits for wreckfish in or from the South Atlantic EEZ are zero.

(iii) The recreational ACL for wreckfish is 21,650 lb (9,820 kg), round weight, for 2015; 21,185 lb (9,609 kg), round weight, for 2016; 20,710 lb (9,394 kg), round weight, for 2017; 20,315 lb (9,215 kg), round weight, for 2018; 19,840 lb (8,999 kg), round weight, for 2019; and 19,455 lb (8,825 kg), round weight, for 2020 and subsequent fishing years.

* * * * *

(t) Atlantic spadefish—(1) Commercial sector. (i) If commercial landings for Atlantic spadefish, as estimated by the SRD, reach or are projected to reach the commercial ACL of 150,552 lb (68,289 kg), round weight, the AA will file a notification with the Office of the Federal Register to close the commercial sector for the remainder of the fishing year. On and after the effective date of such a notification, all sale or purchase of Atlantic spadefish is prohibited and harvest or possession of Atlantic spadefish in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for Atlantic spadefish, as estimated by the SRD, exceed the ACL, and the combined commercial and recreational ACL of 812,478 lb (368,534 kg), round weight, is exceeded, and Atlantic spadefish are overfished based on the most recent Status of U.S. Fisheries Report to Congress, the AA will file a notification with the Office of the Federal Register to reduce the commercial ACL for that following fishing year by the amount of the commercial ACL overage in the prior fishing year.

(2) Recreational sector. (i) If recreational landings for Atlantic spadefish, as estimated by the SRD, reach or are projected to reach the recreational ACL of 661,926 lb (300,245 kg), round weight, the AA will file a notification with the Office of the Federal Register to close the recreational sector for the remainder of the fishing year regardless if the stock is overfished, unless NMFS determines that no closure is necessary based on the best scientific information available. On and after the effective date of such a notification, the bag and possession limits for Atlantic spadefish in or from the South Atlantic EEZ are zero.

(ii) If recreational landings for Atlantic spadefish, as estimated by the SRD, exceed the recreational ACL, then during the following fishing year recreational landings will be monitored for a persistence in increased landings, and if necessary, the AA will file a notification with the Office of the Federal Register to reduce the length of the recreational fishing season and the recreational ACL by the amount of the recreational ACL overage, if Atlantic spadefish are overfished based on the most recent Status of U.S. Fisheries Report to Congress, and if the combined commercial and recreational ACL of 812,478 lb (368,534 kg), round weight, is exceeded during the same fishing year. NMFS will use the best scientific information available to determine if reducing the length of the recreational fishing season and recreational ACL is necessary. When the recreational sector is closed as a result of NMFS reducing the length of the recreational fishing season and ACL, the bag and possession limits for Atlantic spadefish in or from the South Atlantic EEZ are zero.

(u) Hogfish—(1) Commercial sector. (i) If commercial landings for hogfish, as estimated by the SRD, reach or are projected to reach the commercial ACL of 49,469 lb (22,439 kg), round weight, the AA will file a notification with the Office of the Federal Register to close the commercial sector for the remainder of the fishing year. On and after the effective date of such a notification, all sale or purchase of hogfish is prohibited and harvest or possession of hogfish in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for hogfish, as estimated by the SRD, exceed the commercial ACL, and the combined commercial and recreational ACL of 134,824 lb (61,155 kg), round weight, is exceeded, and hogfish are overfished based on the most recent Status of U.S. Fisheries Report to Congress, the AA will file a notification with the Office of the Federal Register to reduce the commercial ACL for that following fishing year by the amount of the commercial ACL overage in the prior fishing year.

(2) Recreational sector. (i) If recreational landings for hogfish, as estimated by the SRD, reach or are projected to reach the recreational ACL of 85,355 lb (38,716 kg), round weight, the AA will file a notification with the Office of the Federal Register to close the recreational sector for the remainder of the fishing year regardless if the stock is overfished, unless NMFS determines that no closure is necessary based on the best scientific information available. On and after the effective date of such a notification, the bag and possession limits for hogfish in or from the South Atlantic EEZ are zero.

(ii) If recreational landings for hogfish, as estimated by the SRD, exceed the recreational ACL, then during the following fishing year recreational landings will be monitored for a persistence in increased landings, and if necessary, the AA will file a notification with the Office of the Federal Register to reduce the length of the recreational fishing season and the recreational ACL by the amount of the recreational ACL overage, if hogfish are overfished based on the most recent Status of U.S. Fisheries Report to Congress, and if the combined commercial and recreational ACL of 134,824 lb (61,155 kg), round weight, is exceeded during the same fishing year. NMFS will use the best scientific information available to determine if reducing the length of the recreational fishing season and recreational ACL is necessary. When the recreational sector is closed as a result of NMFS reducing the length of the recreational fishing season and ACL, the bag and possession limits for hogfish in or from the South Atlantic EEZ are zero.

(v) Red porgy—(1) Commercial sector. (i) If commercial landings for red porgy, as estimated by the SRD, reach or are projected to reach the commercial ACL (commercial quota) specified in § 622.190(a)(6), the AA will file a notification with the Office of the Federal Register to close the commercial sector for the remainder of the fishing year. Applicable restrictions after a commercial quota closure are specified in § 622.190(c).

(ii) If commercial landings for red porgy, as estimated by the SRD, exceed the commercial ACL, and the combined commercial and recreational ACL of 315,384 lb (143,056 kg), gutted weight, 328,000 lb (148,778 kg), round weight, is exceeded during the same fishing year, and red porgy are overfished based on the most recent Status of U.S. Fisheries Report to Congress, the AA will file a notification with the Office of the Federal Register to reduce the commercial ACL in the following fishing year by the amount of the commercial ACL overage in the prior fishing year.

(2) Recreational sector. (i) If recreational landings for red porgy, as estimated by the SRD, reach or are projected to reach the recreational ACL of 157,692 lb (71,528 kg), gutted weight, 164,000 lb (74,389 kg), round weight, the AA will file a notification with the Office of the Federal Register to close the recreational sector for the remainder of the fishing year regardless if the stock is overfished, unless NMFS determines that no closure is necessary based on the best scientific information available. On and after the effective date of such a notification, the bag and possession limits for red porgy in or from the South Atlantic EEZ are zero.

(ii) If recreational landings for red porgy, as estimated by the SRD, exceed the recreational ACL, then during the following fishing year recreational landings will be monitored for a persistence in increased landings, and if necessary, the AA will file a notification with the Office of the Federal Register to reduce the length of the recreational fishing season and the recreational ACL by the amount of the recreational ACL overage, if the species is overfished based on the most recent Status of U.S. Fisheries Report to Congress, and if the combined commercial and recreational ACL of 315,384 lb (143,056 kg), gutted weight, 328,000 lb (148,778 kg), round weight, is exceeded during the same fishing year. The AA will use the best scientific information available to determine if reducing the length of the recreational fishing season and recreational ACL is necessary. When the recreational sector is closed as a result of NMFS reducing the length of the recreational fishing season and ACL, the bag and possession limits for red porgy in or from the South Atlantic EEZ are zero.

(w) Other porgies complex (including jolthead porgy, knobbed porgy, whitebone porgy, scup, and saucereye porgy)—(1) Commercial sector. (i) If commercial landings for the other porgies complex, as estimated by the SRD, reach or are projected to reach the commercial ACL of 36,348 lb (16,487 kg), round weight, the AA will file a notification with the Office of the Federal Register to close the commercial sector for the other porgies complex for the remainder of the fishing year. On and after the effective date of such a notification, all sale or purchase of jolthead porgy, knobbed porgy, whitebone porgy, scup, and saucereye porgy is prohibited, and harvest or possession of any of these species in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for the other porgies complex, as estimated by the SRD, exceed the commercial ACL, and the combined commercial and recreational ACL of 143,262 lb (64,983 kg), round weight, is exceeded, and at least one of the species in the complex is overfished based on the most recent Status of U.S. Fisheries Report to Congress, the AA will file a notification with the Office of the Federal Register to reduce the commercial ACL for that following fishing year by the amount of the commercial ACL overage in the prior fishing year.

(2) Recreational sector. (i) If recreational landings for the other porgies complex, as estimated by the SRD, reach or are projected to reach the recreational ACL of 106,914 lb (48,495 kg), round weight, the AA will file a notification with the Office of the Federal Register to close the recreational sector for the remainder of the fishing year regardless if any stock in the other porgies complex is overfished, unless NMFS determines that no closure is necessary based on the best scientific information available. On and after the effective date of such a notification, the bag and possession limits for any species in the other porgies complex in or from the South Atlantic EEZ are zero.

(ii) If recreational landings for the other porgies complex, as estimated by the SRD, exceed the recreational ACL, then during the following fishing year recreational landings will be monitored for a persistence in increased landings, and if necessary, the AA will file a notification with the Office of the Federal Register to reduce the length of the recreational fishing season and the recreational ACL by the amount of the recreational ACL overage, if one of the species in the complex is overfished based on the most recent Status of U.S. Fisheries Report to Congress, and if the combined commercial and recreational ACL of 143,262 lb (64,983 kg), round weight, is exceeded during the same fishing year. NMFS will use the best scientific information available to determine if reducing the length of the recreational fishing season and recreational ACL is necessary. When the recreational sector is closed as a result of NMFS reducing the length of the recreational fishing season and ACL, the bag and possession limits for any species in the other porgies complex in or from the South Atlantic EEZ are zero.

(x) Grunts complex (including white grunt, sailor's choice, tomtate, and margate)—(1) Commercial sector. (i) If commercial landings for the grunts complex, as estimated by the SRD, reach or are projected to reach the commercial ACL of 217,903 lb (98,839 kg), round weight, the AA will file a notification with the Office of the Federal Register to close the commercial sector for this complex for the remainder of the fishing year. On and after the effective date of such a notification, all sale or purchase of white grunt, sailor's choice, tomtate, and margate is prohibited, and harvest or possession of these species in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for the grunts complex, as estimated by the SRD, exceed the commercial ACL, and the combined commercial and recreational ACL of 836,025 lb (379,215 kg), round weight, and at least one of the species in the complex is overfished based on the most recent Status of U.S. Fisheries Report to Congress, the AA will file a notification with the Office of the Federal Register, at or near the beginning of the following fishing year to reduce the commercial ACL for that following fishing year by the amount of the commercial ACL overage in the prior fishing year.

(2) Recreational sector. (i) If recreational landings for the grunts complex, as estimated by the SRD, reach or are projected to reach the recreational ACL of 618,122 lb (280,375 kg), round weight, the AA will file a notification with the Office of the Federal Register to close the recreational sector for the remainder of the fishing year regardless if any stock in the grunts complex is overfished, unless NMFS determines that no closure is necessary based on the best scientific information available. On and after the effective date of such a notification, the bag and possession limits for any species in the grunts complex in or from the South Atlantic EEZ are zero.

(ii) If recreational landings for the grunts complex, as estimated by the SRD, exceed the recreational ACL, then during the following fishing year recreational landings will be monitored for a persistence in increased landings, and if necessary, the AA will file a notification with the Office of the Federal Register to reduce the length of the recreational fishing season and the recreational ACL by the amount of the recreational ACL overage, if at least one of the species in the grunts complex is overfished based on the most recent Status of U.S. Fisheries Report to Congress, and if the combined commercial and recreational ACL of 836,025 lb (379,215 kg), round weight, is exceeded during the same fishing year. NMFS will use the best scientific information available to determine if reducing the length of the recreational fishing season and recreational ACL is necessary. When the recreational sector is closed as a result of NMFS reducing the length of the recreational fishing season and ACL, the bag and possession limits for any species in the grunts complex in or from the South Atlantic EEZ are zero.

* * * * *

4. In § 622.251, revise paragraph (a) to read as follows:

§ 622.251 Annual catch limits (ACLs), annual catch targets (ACTs), and accountability measures (AMs).

(a) Commercial sector. (1) If commercial landings for golden crab, as estimated by the SRD, reach or are projected to reach the ACL of 2 million lb (907,185 kg), round weight, the AA will file a notification with the Office of the Federal Register to close the golden crab fishery for the remainder of the fishing year. On and after the effective date of such a notification, all harvest, possession, sale, or purchase of golden crab in or from the South Atlantic EEZ is prohibited.

(2) If commercial landings for golden crab, as estimated by the SRD, exceed the ACL, and the species is overfished based on the most recent Status of U.S. Fisheries Report to Congress, the AA will file a notification with the Office of the Federal Register to reduce the ACL in the following fishing year by the amount of the ACL overage in the prior fishing year.

* * * * *

5. In § 622.280, revise paragraphs (a)(1)(i) and (a)(2)(i) and the last two sentences in paragraph (b)(1)(i) to read as follows:

§ 622.280 Annual catch limits (ACLs) and accountability measures (AMs).

(a) * * *

(1) * * *

(i) If commercial landings for Atlantic dolphin, as estimated by the SRD, reach or are projected to reach the commercial ACL of 1,534,485 lb (696,031 kg), round weight, the AA will file a notification with the Office of the Federal Register to close the commercial sector for the remainder of the fishing year. On and after the effective date of such a notification, all sale or purchase of Atlantic dolphin is prohibited and harvest or possession of Atlantic dolphin in or from the Atlantic EEZ is limited to the bag and possession limits. These bag and possession limits apply in the Atlantic on board a vessel for which a valid Federal commercial or charter vessel/headboat permit for Atlantic dolphin and wahoo has been issued, without regard to where such species were harvested, i.e., in state or Federal waters.

* * * * *

(2) * * *

(i) If recreational landings for Atlantic dolphin, as estimated by the SRD, exceed the recreational ACL of 13,810,361 lb (6,264,274 kg), round weight, then during the following fishing year recreational landings will be monitored for a persistence in increased landings.

* * * * *

(b) * * *

(1) * * *

(i) * * * On and after the effective date of such a notification, all sale or purchase of Atlantic wahoo is prohibited and harvest or possession of Atlantic wahoo in or from the Atlantic EEZ is limited to the bag and possession limits. These bag and possession limits apply in the Atlantic on board a vessel for which a valid Federal commercial or charter vessel/headboat permit for Atlantic dolphin and wahoo has been issued, without regard to where such species were harvested, i.e., in state or Federal waters.

* * * * *

[FR Doc. 2016-01258 Filed 1-21-16; 8:45 am]

BILLING CODE 3510-22-P